DEPARTMENT OF THE TREASURY

Internal Revenue Service

Quarterly Publication of Individuals Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2004. Names follow in order of: last name, first name, and middle name or initial (if applicable).

Tomassi, Antonio

Hansen, Ellen Gerd

Liguori, Thomas P

Lester, Arthur Geraint

Kuo, Juinn Yen

Koutsouvilis, Apostolos Paul

Juptner, Heino Gerd

Hsia, Chuan Yeu

Henry, Michael Robert

Harrison, Dhani (aka Olivia)

Han, Gye Sook

Gruenwald, Lisa Therese

Goedkoop, Pieter Daniel

Gibbs, Andrew Lionel John

Gersten, Joseph Morris

Bahremand, Shirin

Alden, Inna

Hawkings, Marilyn Ann

Askvik, Linda Elise

Furulund, Shirley Jane

Benthall, Zamira Menuhin

Blain, Jerome Michel

Boos, Gabriele Elisabeth

Cook, Karin Alexandra

Dodds-Parker, Aileen Coster

Dorn, Susan Therese

Egeland, Kirsten Hansine

Evans, Dona Leslie

Chandris, Dimitri John

Alioth-Streichenberg, Catherine Madeline

Luckyn-Malone, Richard George Sebastian

Rains, Dana Marie

Progin, Karin Charlotte Baker

Poletti, Paul John

Pezier, Emmanuel Richard Jacques

Ono, Yukiko

Muller, Lester Charles

Merker, Robert Charles

Martin, Stephen Richard

Maitland, Marilyn Heriot

Riggs, Brian Craig

Mattsson, Kjell Valentin

Schmitz, Walter

Ryde, Antoinette

Reifert, Thomas Arnold

Loredo, Angel William

Sparks, Peter Colin James

Woodell, Rebecca Glass

Waller, Margaret Patricia

Sheibani, Kaveh

Scarboro, David Dewey

Sager, Christopher Czaja

Morken, Teresa

Giardina, Wendy Suzanne

Wright, Janet Irene

De Haan-Santo, Dorothy

Spiegel, Barbara Maria

Ciufo, Francesco

Welling, Helen Gertruide

Grant, Lewis Russell Horace

Wang, Lee Ying

Snyder, Mary Yvonne

Woods, Francis Xavier

Bard, Erika Isakson

Ahn, Dong Il

Medina, Nathan Robert

Gillery, Gerald David

Warner, Chauncey Ford

Maynard, Lars Olaf

Werner, Sarah Rose

Antonition, Barbara Ann

Greenberg, Alexander Gregory

Tsavliris, Maria Despoina

Chia-Yi Chen, Lorene

Reitsma, Patricia Kay

Braas, Delphine Audrey

Daya, Sheraz Mansoor

Gillery, Margaret Rose

Syrdahl, Henry Tom

Char, Kaye Jin Mae

Campbell Lewis, Jean Martha

Murray, Benjamin Clair

Klaussner, Brigitte Elisabeth

Boehm, Jennifer Louise

Jen, Myra May

de Limburg Stirum, Eloise Joy

Heilmann, Falk

Dupin, Antoine Jean Mosneron

Andersen, Marian Else

Repnow, Sylvia

Burnett-Herkes III, James Neville

Delgado, Zaki K Antoni

Marchandise, Rachel

Wollmann, Paul Carl

Prager, Nancy Lee

Alexander, Michelle Doris Astrid

Scarboro, Norman Dale

Brenninkmeyer-Voss, Angela Maria

Carlsson, Courtney Victoria Manuella

Cooper, Katrina Melissa

Cooper, Danny D

Friberg, Christel

Hallgrimson, Markus Paul

Lecocq, Kevin Louis

Morrow, Karen Virginia

Raskin, Richard R

Raskin, Marilyn Shepherd

Wu, Thomas

Dated: October 4, 2004.
Tracy Harmon,
Examination Operation, Philadelphia Compliance Services.

[FR Doc. 04-23597 Filed 10-20-04; 8:45 am]

BILLING CODE 4830-01-P